DEPARTMENT OF EDUCATION

Office of Special Education and Rehabilitative Services Overview Information; Vocational Rehabilitation Services Projects for American Indians With Disabilities; Notice Reopening Fiscal Year (FY) 2009 Competition for the Vocational Rehabilitation Services Projects for American Indians With Disabilities Program

Catalog of Federal Domestic Assistance (CFDA) Number: 84.250A.

SUMMARY: On May 14, 2009, we published in the Federal Register (74 FR 22729) a notice inviting applications for new awards for fiscal year (FY) 2009 for the American Indian Vocational Rehabilitation Services (AIVRS) program. The application notice for the FY 2009 AIVRS program competition established a July 23, 2009, deadline date for eligible applicants to apply for funding under this program. Elsewhere in this issue of the Federal Register we have published interim final regulations that amend the regulatory definition of the term consortium under the AIVRS program. In order to apply this change to entities applying for a FY 2009 grant, through this notice, we are reopening the competition and establishing a new deadline for the submission of applications by those applicants affected by the change.

FOR FURTHER INFORMATION CONTACT: August Martin, U.S. Department of Education, 400 Maryland Avenue, SW., Room 5088, PCP, Washington, DC 20202-2800. Telephone: (202) 245-7410 or by e-mail: august.martin@ed.gov. If you use a telecommunications device for the deaf (TDD), call the Federal Relay Service (FRS), toll free, at 1-800-877-8339.

Individuals with disabilities can obtain a copy of the application package in an accessible format (e.g., braille, large print, audiotape, or computer diskette) by contacting the program contact person listed in this section.

SUPPLEMENTARY INFORMATION: Elsewhere in this issue of the Federal Register, the Department has amended the definition of the term consortium in the regulations for the AIVRS program (34 CFR 371.4(b)). The purpose of this regulatory change is to ensure that any consortium of Indian tribes could establish a separate legal entity to apply for a grant under this program. Prior to this regulatory change, the Department's definition of the term consortium under the AIVRS program required Indian tribes that choose to form a consortium to designate one of the Indian tribes of the consortium to serve as the grantee; it did not also permit the Indian tribes in the consortium to create a separate legal entity that would serve as the grantee on behalf of the consortium and be responsible for using the grant funds to provide services to all the Indian tribes in the consortium. To ensure that the change in the regulatory definition of the term consortium under the AIVRS program applies to entities applying for a FY 2009 grant, we are reopening the competition and establishing a new deadline for the submission of applications.

Only groups of Indian tribes that seek to apply for funding under the AIVRS program as a consortium using a separate legal entity as the applicant are permitted to submit an application under this reopened competition. Applicants that submitted applications by the July 23, 2009, deadline date in accordance with the terms of the May 14, 2009, notice inviting applications are not required to submit new applications. If an applicant that has already submitted an application for this competition now chooses to join a consortium and have a separate legal entity apply on behalf of the consortium, the applicant must notify the Department and reapply using the separate legal entity as the applicant by the deadline date in this notice.

The new deadline date is:

Deadline for Transmittal of Applications: September 11, 2009.

For information (other than the deadline for submission) about how to submit your application, please refer to section IV. 6. Other Submission Requirements in the May 14, 2009 Federal Register notice (74 FR 22729).

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Andrew J. Pepin, Executive Administrator for the Office of Special Education and Rehabilitative Services, to perform the functions of the Assistant Secretary for Special Education and Rehabilitative Services.

Dated: August 7, 2009.
Andrew J. Pepin,
Executive Administrator for Special Education and Rehabilitative Services.

[FR Doc. E9-19333 Filed 8-11-09; 8:45 am]

BILLING CODE 4000-01-P